DEPARTMENT OF THE INTERIOR

Bureau of Land Management

[LLHQ310000.L13100000.PP0000; OMB Control No. 1004-0034]

Agency Information Collection Activities; Oil and Gas, or Geothermal Resources: Transfers and Assignments

AGENCY: Bureau of Land Management, Interior.

ACTION: Notice of information collection; request for comment.

SUMMARY: In accordance with the Paperwork Reduction Act of 1995, the Bureau of Land Management (BLM) proposes to renew an information collection.

DATES: Interested persons are invited to submit comments on or before June 4, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request additional information about this ICR, contact Jennifer Spencer by email at j35spenc@blm.gov, or by telephone at 307-775-6261. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on December 21, 2020 (85 FR 83102). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This collection of information enables the BLM to process assignments of record title interest and transfers of operating rights in a lease for oil and gas or geothermal resources. Each assignment or transfer is a contract between private parties but, by law, must be approved by the Secretary. The BLM uses information about assignments and transfers to prevent unlawful extraction of mineral resources, to ensure prompt payment of rentals and royalties for the rights obtained under a Federal lease, and to ensure that leases are not encumbered with agreements that cause the minerals to be uneconomical to produce, resulting in lost revenues to the Federal Government. The information also enables the BLM to ensure the assignee or transferee is in compliance with the bonding requirements, when necessary, before approval of the transfer or assignment. Form 3000-003 is used to transfer record title interest (i.e., primary ownership of a lease or the lessee's interest). Form 3003-003a is used to transfer operating rights interest (i.e., also referred to as working interest or a sublease). This request is to extend for an additional three years OMB's approval for the collections of information under this OMB control number.

There are no changes to the information collections (Forms 3003-003 and 3003-003a) under OMB control number 1004-0034. The only program change to the information collections is due to an increase in cost-recovery fees from $95 to $100 per filing. The estimated annual responses have been adjusted downward by 8,808, from 17,626 to 8,818 responses. These adjustments have decreased the hour burden by 4,404, from 8,814 to 4,410 hours. Similarly, the non-hour cost burdens have been adjusted downward by $792,670, from $1,674,470 to $881,800. This downward adjustment in costs is offset by a $44,090 increase due to an increase in cost recovery fees. The cost recovery fees were increased pursuant to a BLM final rule titled, Minerals Management: Adjustment of Cost Recovery Fees, published in the Federal Register on October 9, 2020 (85 FR 64056). The itemized changes in burdens are outlined in the information collection request that has been submitted to OMB and is available at http://www.reginfo.gov/public/do/PRAMain.

Title of Collection: Oil and Gas, or Geothermal Resources: Transfers and Assignments (43 CFR Subparts 3106, 3135, and 3216).

OMB Control Number: 1004-0034.

Form Numbers: 3000-003; 3000-003a.

Type of Review: Extension with revision of a currently approved collection.

Respondents/Affected Public: Assignors and assignees of record title interest in a lease for oil and gas or geothermal resources; and transferors and transferees of operating rights (sublease) in a lease for oil and gas or geothermal resources.

Total Estimated Number of Annual Respondents: 8,818.

Total Estimated Number of Annual Responses: 8,818.

Estimated Completion Time per Response: 30 minutes.

Total Estimated Number of Annual Burden Hours: 4,410.

Respondent's Obligation: Required to obtain or retain a benefit.

Frequency of Collection: On occasion.

Total Estimated Annual Nonhour Burden Cost: $881,800.

An agency may not conduct or sponsor and, notwithstanding any other provision of law, a person is not required to respond to a collection of information unless it displays a currently valid OMB control number.

The authority for this action is the Paperwork Reduction Act of 1995 (44 U.S.C. 3501 et seq.).

Darrin King,
Information Collection Clearance Officer.

[FR Doc. 2021-09496 Filed 5-4-21; 8:45 am]

BILLING CODE 4310-84-P